DEPARTMENT OF LABOR

Employment and Training Administration

[TA-W-64,546]

Hightower Technology Capital, Inc.: Working On Site at Hewlett-Packard Company; Vancouver, WA; Notice of Termination of Investigation

Pursuant to Section 221 of the Trade Act of 1974, as amended, an investigation was initiated on November 26, 2008, in response to a worker petition filed by a company official on behalf of workers at Hightower Technology Capital, Inc., working on site at Hewlett-Packard Company, Vancouver, Washington.

There are two existing certifications applicable to the petitioning group of workers:

(1) Hewlett-Packard Company, Inkjet Consumer Solutions, HP Consumer Hardware Inkjet Lab, Vancouver, Washington (TA-W-64,127; certified October 23, 2008; amended January 9, 2009).

(2) Hewlett-Packard Company, Imaging and Printing Group, Edgeline Development and Light Production Systems Operations Division, Edgeline Development and Operations, Vancouver, Washington (TA-W-64,633; certified December 19, 2008).

Consequently, further investigation would serve no purpose, and the investigation has been terminated.

Signed at Washington, DC, this 9th day of January 2009.
Elliott S. Kushner,
Certifying Officer, Division of Trade Adjustment Assistance.

[FR Doc. E9-1482 Filed 1-23-09; 8:45 am]

BILLING CODE 4510-FN-P